U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on June 20, 2019 on “A `World-Class' Military: Assessing China's Global Military Ambitions.”

DATES: The hearing is scheduled for Thursday, June 20, 2019 at 9:30 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington, DC 20001; telephone: 202-624-1496, or via email at lreagan@uscc.gov. Reservations are not required to attend the hearing.

SUPPLEMENTARY INFORMATION: Background: This is the sixth public hearing the Commission will hold during its 2019 report cycle. In his report to the 19th Congress of the Chinese Communist Party, General Secretary Xi Jinping declared that China would complete the modernization of its armed forces by 2035 and transform them into “world-class forces” by the middle of the 21st century. Xi's vision for the composition and mix of capabilities that would allow the People's Liberation Army to be judged to be a “world-class” military is unknown. Will it be a force with global expeditionary capability, mimicking the United States, or an overwhelming regional force reminiscent of Imperial Japan in 1941? Or, as the two are not necessarily mutually exclusive, could it be both? This hearing will explore what the implications of a world-class Chinese military might be for the United States and its allies and partners, with the goal to begin a public dialogue on this topic and develop recommendations for Congress on how the United States might best protect its interests in the face of a highly-capable Chinese competitor. The hearing will be co-chaired by Commissioner Kenneth Lewis and Commissioner Michael McDevitt. Any interested party may file a written statement by June 20, 2019 by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 31, 2019.
Daniel W. Peck,
Executive Director, U.S.-China Economic and Security Review Commission.

[FR Doc. 2019-11693 Filed 6-4-19; 8:45 am]

BILLING CODE 1137-00-P